DEPARTMENT OF HEALTH AND HUMAN SERVICES

Centers for Disease Control and Prevention

[30DAY-48-00]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-7090. Send written comments to CDC, Desk Officer; Human Resources and Housing Branch, New Executive Office Building, Room 10235; Washington, DC 20503. Written comments should be received within 30 days of this notice.

Proposed Projects

Evaluating National Dissemination Strategies for Effective HIV Prevention Programs for Youth—NEW—The National Center for Chronic Disease Prevention and Health Promotion (NCCDPHP), Centers for Disease Control and Prevention (CDC) seeks OMB approval for an evaluation of the dissemination of CDC identified effective education programs from national training to the community level to be conducted from 2000 to 2002. The project aims to enhance the adoption and implementation of effective HIV prevention programs. As such, it is directly related to the CDC FY 2000 performance plan to reduce the incidence of HIV/AIDS through the dissemination of HIV prevention education programs. CDC will study the diffusion of two prevention programs. Half of the participants attending the training will be randomly selected, by state, to receive additional technical assistance and diffusion action planning. This evaluation will follow two cohorts of respondents: Cohort A (Master Trainers and Coalition Leaders) includes education and public health agency administrators, health education trainers, and community organization and community media leaders who attended the national training and who will disseminate the program in their states and communities; Cohort B (Local Health Educators and Coalition Members) includes local administrators, teachers, and health educators in local health departments, schools, media groups, and community organizations, who attended a training provided by a Master Trainer/Coalition Leader. Cohort A will complete a 30-minute survey at 6 months and 12 months post-training and also participate in one 90-minute focus group conducted by phone. Cohort B will receive one 45-minute survey six months after they have received training.

We assume that each Cohort A participant will, in turn, train 30 local health educators or coalition members (Cohort B). The total annualized burden is estimated to be 1339.5 hours.

Respondents | Number of respondents | Number of responses per respondent | Burden per response
Cohort A: HIV | 57 | 2 | 0.50
Cohort B: HIV | 1710 | 1 | 0.75

Dated: June 30, 2000.
Kathy Cahill,
Associate Director for Policy, Planning and Evaluation, Centers for Disease Control and Prevention (CDC).

[FR Doc. 00-17228 Filed 7-6-00; 8:45 am]

BILLING CODE 4163-18-P